FEDERAL COMMUNICATIONS COMMISSION

[Report No. AUC-01-40-E (Auction No. 40); DA 01-1307]

Auction of Licenses for Lower and Upper Paging Bands Postponed Until October 30, 2001

AGENCY: Federal Communications Commission.

ACTION: Notice.

SUMMARY: This document postpones until October 30, 2001 the start of the upcoming auction of licenses in the Lower and Upper Paging Bands (Auction No. 40) originally scheduled to begin on June 26, 2001. The delay is necessary to allow additional testing on newly developed Web-based software.

DATES: Auction No. 40 is rescheduled to begin on October 30, 2001.

FOR FURTHER INFORMATION CONTACT: Kathy Garland, Auctions and Industry Analysis Division, Wireless Telecommunications Bureau, at (717) 338-2888; or Erik Salovaara, Legal Branch, Auctions and Industry Analysis Division, Wireless Telecommunications Bureau, at (202) 418-0660.

SUPPLEMENTARY INFORMATION: This is a summary of a Public Notice released May 25, 2001 (Auction No. 40 Postponement Public Notice). The complete text of the Auction No. 40 Postponement Public Notice is available for inspection and copying during normal business hours in the FCC Reference Center (Room CY-A257), 445 12th Street, SW, Washington, DC. The Auction No. 40 Postponement Public Notice may also be purchased from the Commission's copy contractor, International Transcription Services, Inc. (ITS, Inc.), 445 12th Street, SW, Room CY-B400, Washington, DC 20554, (202) 314-3070. The Auction No. 40 Postponement Public Notice is also available on the Internet at the Commission's web site: http://www.fcc.gov/wtb/documents.html.

1. By the Auction No. 40 Postponement Public Notice, the Wireless Telecommunications Bureau announces that the start of the upcoming auction of lower and upper paging bands, scheduled for June 26, 2001, is postponed until October 30, 2001, due to the need for additional testing on newly developed Web-based software. The information provided in previous public notices regarding the auction remains unchanged, with the exception of scheduled dates and deadlines in the Procedures Public Notice, 66 FR 21143 (April 27, 2001). Rescheduled dates and deadlines are:

Short-Form Application (FCC Form 175) Deadline: September 17, 2001

Upfront Payments Deadline: October 5, 2001

Auction Start Date: October 30, 2001

Additional rescheduled dates and deadlines will be announced in a subsequent public notice.

2. The original short-form application (FCC Form 175) filing window for Auction No. 40 closed on May 14, 2001, at 6 p.m. ET. All applications submitted during the original window will be deemed ineffective and purged from the FCC's computer system. Any party will be permitted to submit an application for Auction No. 40 in accordance with the new deadline stated.

Federal Communications Commission.
Margaret Wiener,
Chief, Auctions & Industry Analysis Division, Wireless Telecommunications Bureau.

[FR Doc. 01-14243 Filed 6-5-01; 8:45 am]

BILLING CODE 6712-01-U